DEPARTMENT OF HEALTH AND HUMAN SERVICES

National Institutes of Health

National Institute of Biomedical Imaging and Bioengineering; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Biomedical Imaging and Bioengineering, Special Emphasis Panel.

Date: November 13, 2008.

Time: 8 a.m. to 5 p.m.

Agenda: To review and evaluate grant applications.

Place: Gaithersburg Washingtonian Center, Courtyard by Marriott, 204 Boardwalk Place, Gaithersburg, MD 20878. (Telephone Conference Call)

Contact Person: John K. Hayes, PhD, Scientific Review Officer, 6707 Democracy Blvd., Suite 959, Democracy Two, Bethesda, MD 20892, (301) 451-3398, hayesj@mail.nih.gov.

Name of Committee: National Institute of Biomedical Imaging and Bioengineering, Special Emphasis Panel.

Date: November 13-14, 2008.

Time: 7 a.m. to 5 p.m.

Agenda: To review and evaluate grant applications.

Place: Holiday Inn Washington Dulles, Holiday Inn Washington Dulles Int. Airport, 45425 Holiday Drive, Dulles, VA 20166.

Contact Person: Ruth Grossman, DDS, Scientific Review Officer, National Institute of Biomedical Imaging and Bioengineering, 6707 Democracy Boulevard, Room 960, Bethesda, MD 20892, 301-496-8775, grossmanrs@mail.nih.gov.

Dated: September 10, 2008.
Jennifer Spaeth,
Director, Office of Federal Advisory Committee Policy.

[FR Doc. E8-21631 Filed 9-16-08; 8:45 am]

BILLING CODE 4140-01-M